DEPARTMENT OF JUSTICE

Antitrust Division

Notice Pursuant to the National Cooperative Research and Production Act of 1993; Mobile Wireless Internet Forum

Notice is hereby given that, on June 13, 2001, pursuant to section 6(a) of the National Cooperative Research and Production Act of 1993, 15 U.S.C. 4301 et seq. (“the Act”), Mobile Wireless Internet Forum has filed written notifications simultaneously with the Attorney General and the Federal Trade Commission disclosing changes in its membership status. The notifications were filed for the purpose of extending the Act's provisions limiting the recovery of antitrust plaintiffs to actual damages under specified circumstances. Specifically, Contela, Kyunggi-do, Republic of Korea; Genista, Tokyo, Japan; Gtran, Westlake Village, CA; Intel, Buffao, NY; mDiversity, San Jose, CA; and Tahoe Networks, Los Altos, CA have been added as parties to this venture. Also, Adaptive Telecom, Campbell, CA; ALLTEL Communications, Little Rock, AK; Alteon WebSystems, San Jose, CA; BT Wireless, Slough, United Kingdom; Celletra, Ypnqne'am, Israel; Center for Information and Communication Research, Stockholm, Sweden; CoSine Communications, Redwood City, CA; Ericsson, San Diego, CA; Flash Networks, Holmdel, NJ; Hyundai Electronics, Kyoungki-do, Republic of Korea; Livemind, San Francisco, CA; @Mobile, Belelvue, WA; Morphics, Campbell, CA; Nortel Networks, Richardson, TX; NTT DoCoMo, Kangawa, Japan; Open Port, Chicago, IL; Porta Software, Cupertino, CA; Redback Networks, Sunnyvale, CA; Sanyo Electric Company, Gifu, Japan; Starent Networks Corporation, Wilmington, MA; Synacom Technology, San Jose, CA; Tantivy Communications, Melbourne, FL; Telecom New Zealand, Wellington, New Zealand; Teledesic, Bellevue, WA; TELOS Technology, Richmond, British Columbia, Canada; Tertio, London, United Kingdom; UUNET a Worldcom Company, Ashburn, VA; Vertex Networks, Hsin-chu, Taiwan; Wind, Rome, Italy; and Wysdom, Richmond Hill, Ontario, Canada have been dropped as a parties to this venture.

No other changes have been made in either the membership or planned activity of the group research project. Membership in this group research project remains open, and Mobile Wireless Internet Forum intends to file additional written notification disclosing all changes in membership.

On May 25, 2000, Mobile Wireless Internet Forum filed its original notification pursuant to section 6(a) of the Act. The Department of Justice published a notice in the Federal Register pursuant to section 6(b) of the Act on August 11, 2000 (65 FR 49264).

The last notification was filed with the Department on February 13, 2001. A notice was published in the Federal Register pursuant to section 6(b) of the Act on March 29, 2001 (66 FR 17202).

Constance K. Robinson,
Director of Operations, Antitrust Division.

[FR Doc. 01-18797 Filed 7-26-01; 8:45 am]

BILLING CODE 4410-11-M